DEPARTMENT OF DEFENSE

Office of the Secretary

[DOD-2007-OS-0008]

Notice of Availability of the Ballistic Missile Defense System Final Programmatic Environmental Impact Statement

AGENCY: Missile Defense Agency, Department of Defense.

ACTION: Notice of availability.

SUMMARY: This notice announces the availability of the Missile Defense Agency's (MDA) Ballistic Missile Defense System (BMDS) Final Programmatic Environmental Impact Statement (PEIS), which analyzes the potential impacts to the environment of MDA's proposal to develop, test, deploy, and plan for decommissioning an integrated BMDS. The PEIS addresses the integrated BMDS and the development and application of new technologies; evaluates the range of complex programs, architecture, and assets that comprise the BMDS; and provides a framework for future environmental analyses as activities evolve and mature.

DATES: A Record of Decision will be issued no earlier than 30 days from the date of this notice.

Copies of the Final PEIS have been distributed to Federal, State, local agencies, and public officials that previously requested copies of the PEIS. Copies of the Final PEIS will be available at the following public libraries:

• Anchorage Municipal Library, 3600 Denali Street, Anchorage, AK 99503.

• Mountain View Branch Library, 150 S. Street, Anchorage, AK 99508.

• California State Library, Library and Courts Building, 914 Capitol Mall, Sacramento, CA 95814.

• Sacramento Public Library, 828 I Street, Sacramento, CA 95814.

• Hawaii State Library, Hawaii Documents Center, 478 South King Street, Honolulu, HI 96813.

• University of Hawaii at Manoa, Hamilton Library, 2550 The Mall, Honolulu, HI 96822.

• Arlington County Public Library, Central Branch, 1015 North Quincy Street, Arlington, VA 22201.

• District of Columbia Public Library, Central Branch—Martin Luther King, Jr. Memorial Library, 901 G Street NW., Washington, DC 20001.

Requests for electronic copies of the Final BMDS PEIS should be directed to MDA BMDS PEIS, c/o ICF International, 9300 Lee Highway, Fairfax, VA 22031; Phone (Toll-Free) 1-877-MDA-PEIS (1-877-632-7347); Fax (Toll-Free) 1-877-851-5451; E-mail mda.bmds.peis@icfconsulting.com; or Web site. An electronic version of the Final PEIS is available on the MDA Web site at http://www.mda.mil/mdalink/html/enviro.html.

FOR FURTHER INFORMATION CONTACT: Please call Mr. Rick Lehner, MDA Director of Public Affairs, at (703) 697-8997.

SUPPLEMENTARY INFORMATION: MDA has a requirement to develop, test, deploy, and prepare for decommissioning the BMDS to protect the United States, its deployed forces, friends, and allies from ballistic missile threats. The proposed action would provide an integrated BMDS using existing infrastructure and capabilities, when feasible, as well as emerging and new technologies, to meet current and evolving threats in support of the MDA's mission. Conceptually, the BMDS would be a layered system of weapons; sensors; Command and Control, Battle Management, and Communications (C2BMC); and support assets, each with specific functional capabilities, working together to defend against all classes and ranges of threat ballistic missiles in all phases of flight. Multiple defensive weapons would be used to create a layered defense comprised of multiple intercept opportunities along the incoming threat missile's trajectory. This would provide a layered defensive system of capabilities designed to back up one another.

On April 11, 2003, MDA initiated the public scoping process by publishing the Notice of Intent (NOI) to prepare the PEIS for the BMDS in the Federal Register. MDA held public scoping meetings in Arlington, Virginia; Sacramento, California; Anchorage, Alaska; and Honolulu, Hawaii. The Notice of Availability (NOA) of the MDA Ballistic Missile Defense System Draft PEIS was published in the Federal Register on September 17, 2004. This initiated a public review and comment period for the Draft PEIS. MDA held public hearings in Arlington, Virginia; Sacramento, California; Anchorage, Alaska; and Honolulu, Hawaii. MDA received approximately 8,500 comments on the Draft PEIS; MDA considered all of these comments in preparing the Final PEIS. Responses to all of the in-scope comments can be found in Appendix K of the PEIS. Three recurring issues of public concern-orbital debris, perchlorate, and radar impacts to wildlife-were addressed in more technical detail in Appendices L, M, and N of the PEIS.

Alternatives Analysis

The MDA considers two alternatives to implementing an integrated BMDS that address the use of weapons components from land-, sea-, air-, and space-based platforms in addition to the No Action alternative as required by the National Environmental Policy Act.

• Alternative 1. Under Alternative 1, the MDA would develop, test, deploy, and plan to decommission land-, sea-, and air-based platforms for BMDS weapons components and related architecture and assets. Alternative 1 would include space-based sensors, but would not include space-based defensive weapons.

• Alternative 2. Under Alternative 2, the MDA would develop, test, deploy, and plan to decommission land-, sea-, air-, and space-based platforms for BMDS weapons components and related architecture and assets. Alternative 2 would be identical to Alternative 1, with the addition of space-based defensive weapons.

• No Action Alternative. Under the No Action Alternative, the MDA would not develop, test, deploy, or plan for decommissioning activities for an integrated BMDS. Instead, the MDA would continue existing development and testing of discrete systems as stand-alone missile defense capabilities. Individual systems would continue to be tested but would not be subjected to System Integration Tests.

Dated: February 7, 2007.
L. M. Bynum,
Alternate OSD Federal Register Liaison Officer, DoD.

[FR Doc. E7-2433 Filed 2-15-07; 8:45 am]

BILLING CODE 5001-06-P